DEPARTMENT OF AGRICULTURE

Rural Utilities Service

Telecommunications Program: Notice of Availability of a Programmatic Environmental Assessment

AGENCY: Rural Utilities Service, USDA.

ACTION: Notice of Availability of a Programmatic Environmental Assessment of USDA Rural Utilities Service's Financial Support for Deployment of the Telecommunications Programs to Rural America.

SUMMARY: The Rural Utilities Service (RUS, Agency), an agency of the United States Department of Agriculture, seeks public and federal agency comments regarding the preparation of a Programmatic Environmental Assessment (PEA) for the development of a more efficient and effective environmental review process for the RUS Telecommunications Program—an environmental review process that is commensurate with the potential environmental impacts of both wired and wireless broadband projects financed by the Agency. RUS is seeking comment from interested stakeholders regarding compliance with relevant laws and regulations, including the National Environmental Policy Act (NEPA), National Historic Preservation Act (NHPA), Endangered Species Act (ESA) and other environmental statutes, regulations, and Executive Orders applicable to the RUS Telecommunications Infrastructure Loan Program, Farm Bill Broadband Loan Program, Community Connect Grant Program, and Distance Learning and Telemedicine Program (collectively, the Telecommunications Program). The proposed review process supports the Agency's mission of facilitating the development of affordable and reliable broadband infrastructure to improve the quality of life and promote economic development in rural America. The Agency programs provide a necessary source of low-cost capital for rural telecommunications companies (broadband, wireless, and fiber-to-the-home providers). RUS actions covered in the PEA include certain Agency preliminary decisions (such as obligation of funds and approval of interim financing requests) to eligible applicants for project proposals within eligible service areas. In accordance with NEPA, NHPA, ESA, and other applicable environmental statutes, regulations, and Executive Orders, RUS must evaluate the environmental impact of project proposals before providing financial assistance to eligible applicants. The PEA provides a broad environmental analysis of the Agency's preliminary decisions and includes a tiered, site-specific analysis at the project level that would be completed before Agency dispersal of funds and/or applicant construction.

DATES: Written comments on the PEA must be received on or March 31, 2016.

ADDRESSES: Please submit written comments by physical mail or electronic mail to: Mr. Richard Fristik, Senior Environmental Protection Specialist, Water and Environmental Programs/Engineering and Environmental Staff, Rural Utilities Service, 1400 Independence Ave. SW., Mail Stop 1571, Room 2240, Washington, DC 20250, fax: (202) 690-0649, or email: Richard.Fristik@wdc.usda.gov.

To obtain copies of the PEA or for further information, contact: Mr. Richard Fristik at the contact information provided in this Notice. A copy of the PEA is available for downloading through the Rural Development homepage at: http://www.rd.usda.gov/publications/environmental-studies/assessments/programmatic-environmental-assessment. Additional information about the Agency and its programs is available on the Internet at http://www.rd.usda.gov/.

FOR FURTHER INFORMATION CONTACT: For information on the proposed PEA, please contact Mr. Richard Fristik, Senior Environmental Protection Specialist, Water and Environmental Programs/Engineering and Environmental Staff, Rural Utilities Service, 1400 Independence Ave. SW., Mail Stop 1571, Room 2240, Washington, DC 20250, telephone: (202) 720-5093, fax: (202) 690-0649, or email: Richard.Fristik@wdc.usda.gov. Parties wishing to be placed on the PEA's mailing list for future information and to receive copies of the PEA should also contact Mr. Fristik.

SUPPLEMENTARY INFORMATION: The RUS Telecommunications Program provides a variety of loans and grants to build and expand broadband networks in rural America. Loans to build broadband networks and deliver service to households and businesses in rural communities provide a necessary source of capital for rural telecommunications companies. Grant funding is awarded based on a number of factors relating to the benefits to be derived from the proposed broadband network project, as specified in applicable program regulations.

Eligible applicants for RUS loans and grants include for-profit and non-profit entities, tribes, municipalities, and cooperatives. The Agency particularly encourages investment in tribal and economically disadvantaged areas. Through low-cost funding for telecommunications infrastructure, rural residents can have access to services that will close the digital divide between rural and urban communities. Once funds are awarded, RUS monitors the projects to make sure they are completed in accordance with program conditions and requirements.

The application process for requesting financial assistance for the various Telecommunications programs varies slightly from a competitive grant program, individual project proposals, or multi-year “loan design” applications. The Agency seeks to synchronize and create environmental review efficiencies for future project-level environmental review compliance for the various programs, commensurate with the potential environmental impacts. The Agency also seeks to establish proper sequencing of certain agency preliminary decisions (i.e., obligation of funds and/or approval of interim financing requests) with subsequent tiered, site-specific project environmental reviews.

The PEA is intended to expedite the funding, deployment, and expansion of broadband infrastructure in rural America. The PEA includes detailed descriptions and analyses of the direct, indirect, and cumulative impacts associated with broadband infrastructure technologies and construction methods, such as impacts to water resources, terrestrial resources, historic and cultural resources, air and climate resources, noise, threatened and endangered species, electromagnetic radiation, and Environmental Justice issues. Use of the PEA analyses thereby saves project-level processing time, ensuring consistent and accurate environmental evaluations while avoiding unnecessary duplication and repetition in project-level planning and evaluation. Use of the PEA enables project-level compliance with NEPA, ESA, NHPA, and other requirements to focus on the remaining relevant site-specific issues, expediting planning, analysis, compliance, documentation, and ultimately project-level decisions.

The PEA is available for public review at the digital and physical addresses provided in this Notice. Questions and comments should be sent to RUS at the mailing or email addresses provided in this Notice. RUS should receive written comments on the PEA on or before March 31, 2016 to ensure that they are considered in its environmental impact determination.

Any final action by RUS related to the broadband portion of the RUS Telecommunications Program will be subject to, and contingent upon, compliance with all relevant presidential executive orders and federal, state, and local environmental laws and regulations in addition to the completion of the environmental review requirements as prescribed in RUS's Environmental Policies and Procedures, 7 CFR part 1794, as amended.

Dated: February 16, 2016.
Keith B. Adams
Assistant Administrator—Telecommunications Program, Rural Utilities Service.

[FR Doc. 2016-04381 Filed 2-29-16; 8:45 am]

BILLING CODE P